DEPARTMENT OF THE INTERIOR

National Park Service

[NPS-PWR-PWRO-26857; PPWONRADE2, PMP00EI05.YP0000]

Notice of Intent To Prepare an Environmental Impact Statement for a General Management Plan Amendment, Point Reyes National Seashore and North District of Golden Gate National Recreation Area, Marin County, California

AGENCY: National Park Service, Interior.

ACTION: Notice of intent.

SUMMARY: The National Park Service (NPS) is preparing a General Management Plan Amendment (GMP Amendment) and Environmental Impact Statement (EIS) for all lands currently under agricultural lease/permits within Point Reyes National Seashore and the north district of Golden Gate National Recreation Area.

DATES: The NPS requests that comments be submitted by November 30, 2018. Open houses will be announced in local media.

ADDRESSES: Information will be available for public review online at http://parkplanning.nps.gov/POREGMPA and in the Office of the Superintendent, 1 Bear Valley Road, Point Reyes Station, CA 94956 (415-464-5120, telephone). You may submit your comments by any one of several methods. You may comment online at http://parkplanning.nps.gov/POREGMPA. You may mail or hand deliver comments to the Superintendent, Point Reyes National Seashore, 1 Bear Valley Road, Point Reyes Station, CA 94956. Written comments will also be accepted at the public open houses.

FOR FURTHER INFORMATION CONTACT: Melanie Gunn, Outreach Coordinator, Point Reyes National Seashore, 1 Bear Valley Road, Point Reyes Station, CA 94956 (415-464-5131, telephone).

SUPPLEMENTARY INFORMATION: Pursuant to the National Environmental Policy Act of 1969, 42 U.S.C. 4332(2)(C) (NEPA), and the terms of a Settlement Agreement approved by the U.S. District Court for the Northern District of California on July 14, 2017 (Resource Renewal Institute et al., v. National Park Service, Case No. 16-cv-00688-SBA (KAW) (N.D. Cal.)) (Agreement), the NPS is preparing an EIS for lands currently leased for ranching within Point Reyes National Seashore and the north district of Golden Gate National Recreation Area (planning area). In preparing the EIS, the NPS will follow all applicable laws and policies and will comply with the terms of the Agreement. The Agreement requires the EIS to address the statutory elements for General Management Plans, unless inapplicable, and to consider three specific alternatives. The EIS will amend the 1980 GMP for the planning area.

This notice also terminates the GMP EIS process for Point Reyes National Seashore initiated by the NPS on October 14, 1997 (62 FR 53336), updated on May 24, 1999 (64 FR 28008), and expanded to include the north district of Golden Gate National Recreation Area lands on February 3, 2000 (65 FR 5365-5366).

Background

Legislation authorizing the establishment of Point Reyes National Seashore (Point Reyes or Seashore) was enacted in 1962 (16 U.S.C. 459c) for the purpose of preserving “a portion of the diminishing seashore of the United States that remains undeveloped.” The Seashore includes more than 71,000 acres of beaches, coastal cliffs and headlands, marine terraces, coastal uplands, forests, and includes all tide and submerged lands to 0.25 miles offshore. The Seashore administers an additional 15,000 acres of the north district of Golden Gate National Recreation Area (Golden Gate NRA) under a Regional Directive for Management. Congress established Golden Gate NRA in 1972 and expanded it in 1980 to include lands within the planning area. The Golden Gate NRA legislation directs the NPS “to preserve for public use and enjoyment certain areas of Marin and San Francisco Counties, California, possessing outstanding natural, historic, scenic, and recreational values . . . .” and to “preserve the recreation area, as far as possible, in its natural setting, and protect it from development and uses which would destroy the scenic beauty and natural character of the area.” 16 U.S.C. 460bb.

Specific provisions of both the Point Reyes and Golden Gate NRA enabling legislation (16 U.S.C. 459c-5 and 460bb-2(j)) authorize the issuance of lease/special use permits (lease/permits) for agricultural, ranching, or dairying purposes. Approximately 28,000 acres of National Park Service lands, including 18,000 acres of Point Reyes National Seashore and 10,000 acres within the north district of Golden Gate National Recreation Area, are currently utilized for beef and dairy ranching under agricultural lease/permits.

In the spring of 2014, the NPS initiated development of a Ranch Comprehensive Management Plan to address high priority management needs associated with the approximately 28,000 acres of active beef and dairy ranching on NPS lands within Point Reyes and the north district of Golden Gate NRA. The planning effort also addressed concerns related to the expansion of free-range tule elk into the park ranch lands, as well as other issues including lease duration, succession, and ranch operational flexibility and diversification.

In February 2016, litigation was brought against the NPS related to the ranch planning process and the ongoing use of lands within the planning area for ranching and dairying. The plaintiffs and the NPS, together with the ranchers and the County of Marin, entered into settlement negotiations in an effort to resolve the litigation. As referenced in the Supplementary Information section above, a multi-party Agreement was approved by the U.S. District Court on July 14, 2017. Per the Agreement, the NPS agreed that in lieu of the Ranch Comprehensive Management Plan, the NPS would prepare a GMP Amendment and EIS addressing the management of the lands currently leased for ranching within the Seashore and the north district of Golden Gate NRA.

Purpose and Need

Purpose

The purpose of the EIS for the General Management Plan Amendment is to establish guidance for the preservation of natural and cultural resources and the management of infrastructure and visitor use within the planning area. The alternatives evaluated in the EIS will also address the future management of tule elk and leased ranch lands.

Need

Action is needed at this time to address the park's highest priority planning issues which include the management of approximately 28,000 acres of land currently leased for ranching. Action is also needed to comply with the terms of the Agreement which requires that the GMP Amendment and EIS be completed on or before July 14, 2021.

Alternatives

The Agreement requires the NPS to give full consideration to and disclose the impacts of three alternatives: (1) No ranching; (2) no dairy ranching; and (3) reduced ranching. These alternatives must not be conditioned on the discretionary termination of agricultural lease/permits by ranchers. The Agreement expressly preserves the NPS's right to give full consideration to other potential action alternatives. It also allows the NPS to consider agricultural diversification, increased operational flexibility, the promotion of sustainable operational practices, succession planning, and similar ranch management practices as part of any action alternative, except the no ranching alternative. Each of the action alternatives considered in the EIS must also address the four statutorily required elements for GMPs, to the extent applicable. These elements are: Measures to preserve park resources, guidance regarding the types and levels of public use and development, discussion of visitor carrying capacities, and potential external boundary modifications.

Elements Common to All Action Alternatives

The NPS would identify opportunities to improve the visitor experience in the planning area such as enhanced trail connections, improved signage, and new interpretive waysides. The NPS would identify broad management strategies that would be undertaken to preserve park resources, as well as indicators and standards to guide visitor carrying capacities. The NPS has done some initial boundary analysis and does not expect to propose any external boundary modifications under any of the alternatives.

Proposed Action—Based on the purpose and need for action, the NPS proposed action includes the Elements Common to All Action Alternatives and the following additional elements:

• Issue agricultural lease/permits with 20 year terms to existing ranch families to continue beef and dairy operations on approximately 27,000 acres within the planning area.

• The proposed action would include opportunities for operational flexibility and diversification, establish approximately 900 acres of resource protection buffers, and provide programmatic review of best management practices.

• Implement a land management framework on ranch lands allowing for different intensities of land use depending on the zone (ranch core, pasture, and range). Diversification activities (e.g. poultry) would be allowed in the ranch core zone. Pasture areas would allow for some increased pasture management activities. Range areas would be dedicated to livestock grazing.

• Take actions to minimize elk-related impacts including: Hazing, fence repair and modification, water development, habitat improvement, and other measures as appropriate. The Drakes Beach free-range tule elk herd would be managed at a level compatible with authorized ranching operations. The NPS would manage within that range using translocation outside of the park if practicable, or agency-managed lethal removal methods. Additionally, the NPS will evaluate management of tule elk from the Limantour free-range herd if they affect ranchlands.

The proposed action represents one alternative that will be considered during the EIS process, and it will be further developed and refined throughout the process. In addition to the proposed action, the NPS is considering the following additional alternative concepts.

No Action—This alternative is required by NEPA and would continue the issuance of short-term agricultural lease/permits for ongoing activities, with limited management of free-range tule elk affecting park ranch lands, consistent with current management. This alternative would continue to maintain existing operations, management of park resources and visitor use generally at current levels. The NPS would maintain the existing Seashore boundary. Under this alternative, beef and dairy ranching operations would continue to be authorized on approximately 27,000 acres within the planning area under 5 and 10 year agricultural lease/permits.

Action Alternatives

Continued Ranching and Removal of the Drakes Beach Tule Elk Herd—Existing ranch families would be authorized to continue beef and dairy operations under agricultural lease/permits as described in the proposed action. Under this alternative, the Drakes Beach tule elk herd would be removed using translocation outside of the park if practicable, or agency-managed lethal methods. The NPS would continue to manage the Limantour herd as in the proposed action. Under this alternative, approximately 27,000 acres of beef and dairy ranching operations would be authorized under agricultural lease/permits within the planning area.

Reduced Ranching and Management of the Drakes Beach Tule Elk Herd—A reduced ranching alternative is required by the Agreement. Under this alternative, cessation of grazing operations would occur on approximately 7,500 acres within the planning area. The areas identified for closure to grazing would minimize the overall impact to the Point Reyes Peninsula Dairy Ranches Historic District and Olema Valley Dairy Ranches Historic District. Most of the areas identified for closure do not have developed complexes or permitted residential uses. For areas remaining in agricultural use, agricultural lease/permits would be offered as described under the proposed action. Tule elk would be managed consistent with the actions described in the proposed action but under population targets commensurate with the level of ranching operations in this alternative. Under this alternative, approximately 19,500 acres of beef and dairy ranching operations would be authorized under agricultural lease/permits within the planning area.

No Dairy Ranching and Limited Management of the Drakes Beach Tule Elk Herd—A no dairy ranching alternative is required by the Agreement. Under this alternative, all beef cattle grazing operations would continue. The six active dairies within Point Reyes would cease operations. Dairy operators would be eligible to convert operations to beef cattle grazing over a period of 5 years. For areas remaining in agricultural use, agricultural lease/permits would be offered as described above for the proposed action. The NPS would take limited action to manage the geographic extent of all free-range tule elk, but only where management is needed to support other resource protection and park goals. Under this alternative, approximately 27,000 acres of beef grazing operations would be authorized under agricultural lease/permits within the planning area.

No Ranching and Expansion of Tule Elk in the Planning Area—A no ranching alternative is required by the Agreement. Under this alternative, ranching in all areas of the Seashore and the north district of Golden Gate NRA would cease. With the exception of the two locations with life-estates, most operations would be phased out over a period of 5 years. The NPS anticipates many of the areas and their associated facilities would be converted and offered for public not-for-profit education, research and outdoor experiential activities and other public recreation and visitor opportunities. The EIS will evaluate these actions at the programmatic level. The NPS would take limited action to manage the geographic extent of the free-range tule elk herd, but only where management is needed to support other resource protection and park goals.

Each of the action alternatives will also include the Elements Common to All Action Alternatives. The alternative concepts and management tools under consideration may change based upon input received during public scoping and throughout the development of the EIS. The NPS will also consider other alternatives that are suggested during the scoping period, as appropriate. The NPS will not select an alternative for implementation until after a final EIS is completed.

Public Comment

How to Provide Comments—During the scoping period, maps and other project information will be available on the project's website (http://parkplanning.nps.gov/POREGMPA). Public open houses will be conducted to provide an opportunity for the public to share their comments and learn more about activities within the planning area. Details regarding the exact times and locations of these meetings will be announced on the project website and through local and regional media. The meetings will also be announced through email notification to individuals and organizations on the initial distribution list.

If you wish to comment on the purpose, need, preliminary alternatives, or on any other issues associated with development of the draft GMP Amendment EIS, you may submit your comments by any one of several methods. The preferred method for commenting is online at http://parkplanning.nps.gov/POREGMPA. You may also mail or hand deliver comments to the Superintendent, Point Reyes National Seashore, 1 Bear Valley Road, Point Reyes Station, CA 94956. Written comments will also be accepted at the public open houses. Comments will not be accepted by fax, email, or by any method other than those specified above. Bulk comments in any format (hard copy or electronic) submitted on behalf of others will not be accepted.

Public Availability of Comments—Before including your address, phone number, email address, or other personal identifying information in your comment, you should be aware that your entire comment—including your personal identifying information—may be made publicly available at any time. While you can ask us in your comment to withhold your personal identifying information from public review, we cannot guarantee that we will be able to do so.

Authority: 40 CFR 1501.7.

Dated: October 19, 2018.
Colin Smith,
Acting Regional Director, Pacific West Region, National Park Service.

[FR Doc. 2018-23807 Filed 10-30-18; 8:45 am]

BILLING CODE 4312-52-P